DEPARTMENT OF HOMELAND SECURITY

Coast Guard

33 CFR Part 100

[Docket No. USCG-2013-0129]

RIN 1625—AA08

Special Local Regulations; Marine Events, Spa Creek and Annapolis Harbor; Annapolis, MD

AGENCY: Coast Guard, DHS.

ACTION: Proposed rule; withdrawal.

SUMMARY: The Coast Guard is withdrawing its proposed rule concerning amendments to the regattas and marine parades regulations. The rulemaking was initiated to establish special local regulations during the swim segment of the “TriRock Triathlon Series,” a marine event to be held on the waters of Spa Creek and Annapolis Harbor on July 20, 2013. The Coast Guard was notified on May 21, 2013, that the event had been cancelled.

DATES: The proposed rule is withdrawn on June 25, 2013.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0129 in the “SEARCH” box, and then clicking “Search.”

FOR FURTHER INFORMATION CONTACT: If you have questions about this notice, call or email Mr. Ronald Houck, Waterways Management Division, Sector Baltimore, MD, U.S. Coast Guard; telephone 410-576-2674, email Ronald.L.Houck@uscg.mil. If you have questions on viewing material in the docket, call Barbara Hairston, Program Manager, Docket Operations, telephone 202-366-9826.

SUPPLEMENTARY INFORMATION:

Background

On April 3, 2013, we published a notice of proposed rulemaking entitled “Special Local Regulations; Marine Events, Spa Creek and Annapolis Harbor; Annapolis, MD” in the Federal Register (78 FR 20066). The rulemaking concerned the Coast Guard's proposal to establish temporary special local regulations on specified waters of Spa Creek and Annapolis Harbor at Annapolis, MD, effective from 6 a.m. to 9:30 a.m. on July 20, 2013. The regulated area included all waters of the Spa Creek and Annapolis Harbor, from shoreline to shoreline, bounded by a line drawn near the entrance of Spa Creek originating at latitude 38°58′40″ N, longitude 076°28′49″ W, thence south to latitude 38°58′32″ N, longitude 076°28′45″ W. The regulated area is bounded to the southwest by a line drawn from latitude 38°58′34″ N, longitude 076°29′05″ W thence south to latitude 38°58′27″ N, longitude 076°28′55″ W, located at Annapolis, MD. The regulations were needed to temporarily restrict vessel traffic during the event to provide for the safety of participants, spectators and other transiting vessels.

Withdrawal

The Coast Guard is withdrawing this rulemaking because the event has been cancelled.

Authority

We issue this notice of withdrawal under the authority of 33 U.S.C. 1233.

Dated: June 3, 2013.
Kevin C. Kiefer,
Captain, U.S. Coast Guard, Captain of the Port Baltimore.

[FR Doc. 2013-15092 Filed 6-24-13; 8:45 am]

BILLING CODE 9110-04-P